DEPARTMENT OF COMMERCE

National Oceanic and Atmospheric Administration

Announcement of Great Bay National Estuarine Research Reserve Revised Management Plan Including a Boundary Expansion

AGENCY: Estuarine Reserves Division, Office of Ocean and Coastal Resource Management, National Ocean Service, National Oceanic and Atmospheric Administration, U.S. Department of Commerce.

ACTION: Notice of Approval and Availability of the Revised Management Plan for the Great Bay National Estuarine Research Reserve.

SUMMARY: Notice is hereby given that the Estuarine Reserves Division, Office of Ocean and Coastal Resource Management, National Ocean Service, National Oceanic and Atmospheric Administration (NOAA), U.S. Department of Commerce has approved the revised management plan and expansion of the boundary for the Great Bay National Estuarine Research Reserve.

The Great Bay Reserve was designated in 1989 pursuant to section 315 of the Coastal Zone Management Act of 1972, as amended, 16 U.S.C. 1461. The reserve has been operating under a management plan approved in 1989. Pursuant to 15 CFR 921.33(c), a state must revise their management plan every five years. The submission of this plan fulfills this requirement and sets a course for successful implementation of the goals and objectives of the reserve.

The mission of the Great Bay Reserve is to promote informed management of the Great Bay estuary and estuarine habitats through linked programs of stewardship, public education, and scientific understanding.

The management plan establishes goals consistent with the reserve's mission. These goals cover three general areas: (1) Protect and improve habitat and biological diversity within the boundary of the Reserve, (2) improve decisions affecting estuarine and coastal resources, and (3) promote education, stewardship, and scientific research focusing on estuarine ecosystems. Organized in a framework of programmatic goals and objectives, the Great Bay Reserve's management plan identifies specific strategies or actions for research, education/interpretation, public access, construction, acquisition, and resource protection, restoration, and manipulation. Overall, the plan seeks to accomplish the mission of the reserve by facilitating scientific research, encouraging stewardship, and addressing the local education and outreach needs.

Specifically, stewardship is encompassed under resource protection, habitat restoration, and resource manipulation plans. These plans address reserve efforts to evaluate natural and anthropogenic processes that affect the reserve and its habitats, support for research and monitoring of important resources, restore and protect natural habitats and to actively educate the public to inform resource management.

Research and monitoring support independent research projects within the reserve and its vicinity with resources and background data. Staff and visiting researchers conduct monitoring and research within the boundaries of the reserve and Great Bay watershed and use GIS to map critical habitats. Research and monitoring results are made available to others and are translated to public and private users through education, training and outreach programs.

Education at the reserve targets a wide variety of audiences including students, teachers, adults, resource users and coastal decision-maker audiences. The reserve's comprehensive approach to education including a K-12 education program, outreach and a coastal training program are designed to increase knowledge about estuaries for target audiences.

Public access at Great Bay Reserve includes improving and enhancing water access to facilitate the implementation of reserve programs. Also, the reserve will reduce impacts on natural resources and maximize public outreach by designating specific areas (i.e., boardwalks) and create guidelines for public access.

Administration at the reserve includes supporting the staffing and budget necessary to carry out the goals and objectives of the plan. The administration of the Great Bay Reserve is a collective effort involving the New Hampshire Department of Fish and Game, other state or local agencies and organizations, and the Reserve Advisory Committee. An established administrative framework implements and coordinates Reserve programs under the plan.

The boundary expansion incorporates additional open water and salt marsh in Little Bay and up to the first dams of five of the seven tidal rivers, namely: Bellamy River, Oyster River, Lamprey River, Squamscott River, and Winnicut River. Additional upland includes parcels purchased through the Nature Conservancy (TNC) on behalf of the Great Bay Resource Protection Partnership and transferred to New Hampshire Fish and Game Department, and the rest of the Great Bay National Wildlife Refuge. The expansion provides a broader and more representative diversity of wetland and water habitats. The new boundary of the reserve includes tidal freshwater riverine, emergent and forested wetland communities that are necessary to protect the ecological units of the natural estuarine system for research purposes.

FOR FURTHER INFORMATION CONTACT: Doris Grimm at (301) 563-7107 or Laurie McGilvray at (301) 563-1158 of NOAA's National Ocean Service, Estuarine Reserves Division, 1305 East-West Highway, N/ORM5, 10th floor, Silver Spring, MD 20910.

Dated: September 14, 2007.
David M. Kennedy,
Director, Office of Ocean and Coastal Resource Management, National Oceanic and Atmospheric Administration.

[FR Doc. E7-18773 Filed 9-21-07; 8:45 am]

BILLING CODE 3510-08-P